DEPARTMENT OF ENERGY

10 CFR Part 430

[Docket No. EERE-2010-BT-NOA-0016]

Notice of Availability of Interpretive Rule on the Applicability of Current Water Conservation Standards for Showerheads; Request for Comments

AGENCY: Department of Energy.

ACTION: Notice of availability and request for comments.

SUMMARY: The U.S. Department of Energy (DOE) or (the Department) is providing notice of an interpretive rule that sets out the Department's views on the definition of “showerhead” in the DOE's regulations related to the energy conservation program for consumer products. The draft interpretive rule represents the Department's interpretation of its existing regulations and is exempt from the notice and comment requirements of the Administrative Procedure Act. See 5 U.S.C. 553(b)(A). Nevertheless, given that the Department has not previously expressed its views on this definition, we are interested in receiving feedback from the public on the interpretation. At the end of the comment period, this draft interpretive rule may be adopted, revised or withdrawn.

DATES: Comments regarding this draft interpretive rule must be received on or before June 18, 2010.

ADDRESSES: Comments may be submitted to DOE using the following method:

• E-mail: Showerhead_Guidance_Comments@hq.doe.gov. Include the docket number in the subject line of the message. Comments and suggestions should be provided in WordPerfect, Microsoft Word, PDF, or text file format.

The full text of the interpretive rule is available at http://www1.eere.energy.gov/buildings/appliance_standards/residential/pdfs/showerhead_guidance.pdf.

FOR FURTHER INFORMATION CONTACT: Requests for additional information should be directed to Ms. Laura Barhydt laura.barhydt@hq.doe.gov or by phone at 202-287-5772.

SUPPLEMENTARY INFORMATION: The U.S. Department of Energy (DOE) or (the Department) is providing notice of an interpretive rule that sets out the Department's views on the definition of “showerhead” in 10 CFR 430.2. The draft interpretive rule represents the Department's interpretation of its existing regulations and is exempt from the notice and comment requirements of the Administrative Procedure Act. See 5 U.S.C. 553(b)(A). Nevertheless, given that the Department has not previously expressed its views on this definition, we are interested in receiving feedback from the public on the interpretation. At the end of the comment period, this draft interpretive rule may be adopted, revised or withdrawn. The full text of the interpretive rule is available at http://www1.eere.energy.gov/buildings/appliance_standards/residential/pdfs/showerhead_guidance.pdf.

Authority: 42 U.S.C. 6291 and 42 U.S.C. 6298.

Issued in Washington, DC, on May 10, 2010.
Scott Blake Harris,
General Counsel.

[FR Doc. 2010-11572 Filed 5-18-10; 8:45 am]

BILLING CODE 6450-01-P